DEPARTMENT OF TRANSPORTATION

Federal Aviation Administration

14 CFR Part 39

[Docket No. FAA-2015-1421; Product Identifier 2014-NM-177-AD]

RIN 2120-AA64

Airworthiness Directives; The Boeing Company Airplanes

AGENCY: Federal Aviation Administration (FAA), DOT.

ACTION: Supplemental notice of proposed rulemaking (SNPRM); reopening of comment period.

SUMMARY: We are revising an earlier proposal for certain The Boeing Company Model 767-300 and -300F series airplanes. This action revises the notice of proposed rulemaking (NPRM) by adding new high frequency eddy current (HFEC) inspections for cracking of an expanded area of the lower outboard wing skin for certain airplanes. We are proposing this airworthiness directive (AD) to address the unsafe condition on these products. Since these actions would impose an additional burden over those in the NPRM, we are reopening the comment period to allow the public the chance to comment on these changes.

DATES: The comment period for the NPRM published in the Federal Register on June 5, 2015 (80 FR 32066), is reopened.

We must receive comments on this SNPRM by January 11, 2018.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this SNPRM, contact Aviation Partners Boeing, 2811 S. 102nd Street, Suite 200, Seattle, WA 98168; telephone 206-762-1171; Internet https://www.aviationpartnersboeing.com. You may view this service information at the FAA, Transport Standards Branch, 1601 Lind Avenue SW., Renton, WA. For information on the availability of this material at the FAA, call 425-227-1221.

Examining the AD Docket

You may examine the AD docket on the Internet at http://www.regulations.gov by searching for and locating Docket No. FAA-2015-1421; or in person at the Docket Management Facility between 9 a.m. and 5 p.m., Monday through Friday, except Federal holidays. The AD docket contains this SNPRM, the regulatory evaluation, any comments received, and other information. The street address for the Docket Office (phone: 800-647-5527) is in the ADDRESSES section. Comments will be available in the AD docket shortly after receipt.

FOR FURTHER INFORMATION CONTACT: Allen Rauschendorfer, Aerospace Engineer, Airframe Section, FAA, Seattle ACO Branch, 1601 Lind Avenue SW., Renton, WA 98057-3356; phone: 425-917-6450; fax: 425-917-6590; email: allen.rauschendorfer@faa.gov.

SUPPLEMENTARY INFORMATION:

Comments Invited

We invite you to send any written relevant data, views, or arguments about this proposal. Send your comments to an address listed under the ADDRESSES section. Include “Docket No. FAA-2015-1421; Product Identifier 2014-NM-177-AD” at the beginning of your comments. We specifically invite comments on the overall regulatory, economic, environmental, and energy aspects of this SNPRM. We will consider all comments received by the closing date and may amend this SNPRM because of those comments.

We will post all comments we receive, without change, to http://www.regulations.gov, including any personal information you provide. We will also post a report summarizing each substantive verbal contact we receive about this SNPRM.

Discussion

We issued an NPRM to amend 14 CFR part 39 by adding an AD that would apply to certain The Boeing Company Model 767-300 and -300F series airplanes. The NPRM published in the Federal Register on June 5, 2015 (80 FR 32066). The NPRM was prompted by reports of fatigue cracking on airplanes with Aviation Partners Boeing winglets installed. The NPRM proposed to require an HFEC inspection for cracking of the lower outboard wing skin, and repair or modification if necessary. The NPRM also proposed to require one of three follow-on actions: repeating the HFEC inspections; modifying certain internal stringers and oversizing and plugging the existing fastener holes of the lower wing; or modifying the external doubler/tripler and doing repetitive post-modification inspections.

Actions Since the NPRM Was Issued

Since we issued the NPRM, we have determined that new HFEC inspections for cracking of an expanded area of the lower outboard wing skin are necessary to address the identified unsafe condition for certain airplanes.

Aviation Partners Boeing (APB) has released Service Bulletin AP767-57-010, Revision 11, dated April 3, 2017. In the NPRM, we refer to APB Service Bulletin AP767-57-010, Revision 7, dated November 4, 2014, as the appropriate source of service information for accomplishing the proposed actions. APB Service Bulletin AP767-57-010, Revision 11, dated April 3, 2017, corrects certain errors and omissions that were in the Accomplishment Instructions of APB Service Bulletin AP767-57-010, Revision 7, dated November 4, 2014, and provides clarification of certain procedures. APB Service Bulletin AP767-57-010, Revision 11, dated April 3, 2017, also removes all work related to stringer L-6.5 due to recent analysis that the modification was not sufficient to meet the 767 design service objective.

In light of this analysis, new repetitive post-modification HFEC inspections have been added for airplanes on which the optional terminating modification of the existing skin or external skin doubler has been done. We have revised this proposed AD to refer to APB Service Bulletin AP767-57-010, Revision 11, dated April 3, 2017, for accomplishing proposed actions for stringer L-9.5.

APB has also released Service Bulletin AP767-57-014, Revision 1, dated April 12, 2017. APB Service Bulletin AP767-57-014, Revision 1, dated April 12, 2017, includes procedures for inspections, repair (modification), and repair of stringer L-6.5 of the lower outboard wing skin (which replace the actions that were removed from APB Service Bulletin AP767-57-010, Revision 11, dated April 3, 2017).

Related Service Information Under 1 CFR Part 51

We reviewed APB Service Bulletin AP767-57-010, Revision 11, dated April 3, 2017. The service information describes procedures for an HFEC inspection for cracking of the external surface of the lower outboard wing skin at stringer L-9.5 and on-condition actions that include repetitive HFEC inspections; modification by oversizing and plugging the existing fastener holes of the wing skin; repair (modification) of the stringer with new stringer; repair (modification) of the stringer with external doubler/tripler; repetitive post-repair inspections for cracking; and repair.

We also reviewed APB Service Bulletin AP767-57-014, Revision 1, dated April 12, 2017. The service information describes procedures for an HFEC inspection for cracking of the lower outboard wing skin at stringer L-6.5 and on-condition actions that include repetitive HFEC inspections; repair (modification) of the stringer with new stringer; repetitive post-repair HFEC inspections for cracking; and repair.

This service information is reasonably available because the interested parties have access to it through their normal course of business or by the means identified in the ADDRESSES section.

Comments

We gave the public the opportunity to participate in developing this proposed AD. We considered the comments received.

Request To Clarify Service Information and Actions in the Proposed AD

Multiple commenters (United Airlines, Delta Air Lines, American Airlines, Japan Airlines, FedEx, Boeing) requested that the actions specified in APB Service Bulletin AP767-57-010, Revision 7, dated November 4, 2014, be revised. Commenters noted that APB Service Bulletin AP767-57-010, Revision 7, dated November 4, 2014, contained multiple errors. United Airlines, Delta Air Lines, American Airlines and Boeing also requested that the actions specified in the proposed AD be revised for clarity because certain language in the proposed AD did not match the language in APB Service Bulletin AP767-57-010, Revision 7, dated November 4, 2014. APB stated APB Service Bulletin AP767-57-010, Revision 7, dated November 4, 2014, is being revised to include corrections and clarifications and additional work. APB recommend that we refer to updated service information.

We acknowledge the commenters' request and have revised this SNPRM to refer to the updated service information in APB Service Bulletin AP767-57-010, Revision 11, dated April 3, 2017, and APB Service Bulletin AP767-57-014, Revision 1, dated April 12, 2017.

Request To Allow Previously Approved Repairs

American Airlines, APB, and Boeing requested that we give credit for repairs in the subject area that had received 8100-9 approval prior to the effective date of the AD.

We agree to give credit for repairs that we have determined will address the identified unsafe condition. We replaced the content of paragraph (i) of the proposed AD (in the NPRM) with new content in this proposed AD to specify that repairs of the lower outboard wing skin done after June 15, 2017, and before the effective date of this AD, that are approved by the Boeing Commercial Airplanes Organization Designation Authorization (ODA) that has been authorized by the Manager, Seattle ACO Branch, are approved for the applicable repairs required by paragraphs (g) and (h) of this AD.

Request To Allow Previous Modifications

Air New Zealand requested that we give credit for accomplishing the proposed modification before the effective date of the AD by adding the required service information to paragraph (i) of the proposed AD, which specifies credit for previous actions.

We acknowledge the comment. However, no change to this proposed AD is necessary. Operators who accomplish the actions required by an AD using the required service information before the effective date of an AD are in compliance with the AD. Paragraph (f) of this proposed AD states “comply with this AD within the compliance times specified, unless already done.” Credit for previous actions in ADs is used primarily to give credit for earlier revisions of required service information that are also acceptable for compliance if done before the effective date of the AD.

FAA's Determination

We are proposing this AD because we evaluated all the relevant information and determined the unsafe condition described previously is likely to exist or develop in other products of the same type design. Certain changes described above expand the scope of the NPRM. As a result, we have determined that it is necessary to reopen the comment period to provide additional opportunity for the public to comment on this SNPRM.

Proposed Requirements of This SNPRM

This SNPRM would require accomplishing the actions specified in the service information described previously, except as discussed under “Differences Between this Proposed Rule and the Service Information.”

The compliance times vary depending on airplane configuration and inspection area. The shortest initial compliance time is the later of: 1,500 flight cycles or 7,500 flight hours after winglet installation, whichever occurs first; or 18 months after the effective date of the AD. Except for one group of airplanes, the longest initial compliance time is the later of: 7,800 flight cycles or 23,400 flight hours after installation of a certain modification, whichever occurs first; or 18 months after the effective date of the AD. For one group of airplanes, the longest initial compliance time is 29,000 total flight cycles or 111,000 total flight hours, whichever occurs first.

The shortest repetitive interval is 1,500 flight cycles or 7,500 flight hours, whichever occurs first. The longest repetitive interval is 12,000 flight cycles or 36,000 flight hours, whichever occurs first.

Differences Between Proposed Rule and Service Information

APB Service Bulletin AP767-57-010, Revision 11, dated April 3, 2017, and APB Service Bulletin AP767-57-014, Revision 1, dated April 12, 2017, specify to contact the manufacturer for instructions on how to repair certain conditions, but this proposed AD would require repairing those conditions in one of the following ways:

• In accordance with a method that we approve; or

• Using data that meet the certification basis of the airplane, and that have been approved by the Boeing Commercial Airplanes ODA whom we have authorized to make those findings.

Table 5a of paragraph 1.E., “Compliance,” of APB Service Bulletin AP767-57-010, Revision 11, dated April 3, 2017, does not provide a grace period for airplanes that have exceeded a certain compliance time. We have added a grace period of 6 months to paragraph (g)(2) of this proposed AD.

Costs of Compliance

We estimate that this proposed AD affects 140 airplanes of U.S. registry. We estimate the following costs to comply with this proposed AD:

Estimated Costs—Required Actions
Action | Labor cost | Parts cost | Cost per product | Cost on U.S. operators
HFEC Inspections | 6 work-hours × $85 per hour = $510 | $0 | $510 | $71,400

We estimate the following costs to do any necessary on-condition actions that would be required based on the results of the proposed inspection. We have no way of determining the number of aircraft that might need these on-condition actions.

Estimated Costs—On-Condition Actions
Action | Labor cost | Parts cost | Cost per product
Post-repair Inspections | 6 work-hours × $85 per hour = $510 per inspection cycle | $0 | $510
Repair/Modification | 262 work-hours × 85 per hour = 22,270 | 0 | 22,270

We have received no definitive data that would enable us to provide cost estimates for on-condition repairs for the post-repair inspections specified in this proposed AD.

Authority for This Rulemaking

Title 49 of the United States Code specifies the FAA's authority to issue rules on aviation safety. Subtitle I, section 106, describes the authority of the FAA Administrator. “Subtitle VII: Aviation Programs” describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This proposed AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes to the Director of the System Oversight Division.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

The Boeing Company: Docket No. FAA-2015-1421; Product Identifier 2014-NM-177-AD.

(a) Comments Due Date

We must receive comments by January 11, 2018.

(b) Affected ADs

None.

(c) Applicability

This AD applies to The Boeing Company Model 767-300 and -300F series airplanes, certificated in any category, with Aviation Partners Boeing winglets installed; as identified in Aviation Partners Boeing Service Bulletin AP767-57-010, Revision 11, dated April 3, 2017; and Aviation Partners Boeing Service Bulletin AP767-57-014, Revision 1, dated April 12, 2017.

(d) Subject

Air Transport Association (ATA) of America Code 57, Wings.

(e) Unsafe Condition

This AD was prompted by reports of fatigue cracking in the lower outboard wing skin at the inboard fastener of stringer L-9.5, and the lower outboard wing skin of stringer L-6.5, on airplanes with winglets installed per Supplemental Type Certificate ST01920SE. We are issuing this AD to prevent fatigue cracking in the lower outboard wing skin, which could result in failure and subsequent separation of the wing and winglet and consequent reduced controllability of the airplane.

(f) Compliance

Comply with this AD within the compliance times specified, unless already done.

(g) Repetitive Stringer L-9.5 Inspections, Modification, Repair (Modification), Repetitive Post-Repair Inspections, and Repair

(1) For Group 1 and Group 2 airplanes identified in Aviation Partners Boeing Service Bulletin AP767-57-010, Revision 11, dated April 3, 2017: At the applicable time specified in paragraph 1.E., “Compliance,” of Aviation Partners Boeing Service Bulletin AP767-57-010, Revision 11, dated April 3, 2017, except as required by paragraph (j)(1) of this AD: Do a high frequency eddy current (HFEC) inspection for cracking of the lower outboard wing skin at stringer L-9.5, in accordance with Part 1 of the Accomplishment Instructions of Aviation Partners Boeing Service Bulletin AP767-57-010, Revision 11, dated April 3, 2017.

(i) For airplanes on which “Condition 1” is found, as defined in the Accomplishment Instructions of Aviation Partners Boeing Service Bulletin AP767-57-010, Revision 11, dated April 3, 2017, during any inspection required by paragraph (g)(1) or (g)(1)(i)(A) of this AD: Do the applicable actions required by paragraph (g)(1)(i)(A), (g)(1)(i)(B), (g)(1)(i)(C), or (g)(1)(i)(D) of this AD.

(A) Repeat the inspection specified in paragraph (g)(1) of this AD thereafter at the applicable times specified in paragraph 1.E., “Compliance,” of Aviation Partners Boeing Service Bulletin AP767-57-010, Revision 11, dated April 3, 2017.

(B) Do the applicable actions required by paragraphs (g)(1)(i)(B)(1), (g)(1)(i)(B)(2), and (g)(1)(i)(B)(3) of this AD.

(1) Before further flight, do actions (modifications and repair (modification)) in accordance with Part 2, Part 3, Part 4, and Part 5, as applicable, of the Accomplishment Instructions of Aviation Partners Boeing Service Bulletin AP767-57-010, Revision 11, dated April 3, 2017.

(2) For airplanes on which the repair (modification) specified in Part 5 of Aviation Partners Boeing Service Bulletin AP767-57-010 was done: At the applicable time specified in paragraph 1.E., “Compliance,” of Aviation Partners Boeing Service Bulletin AP767-57-010, Revision 11, dated April 3, 2017, do a post-repair HFEC inspection for cracking, in accordance with Part 12 of the Accomplishment Instructions of Aviation Partners Boeing Service Bulletin AP767-57-010, Revision 11, dated April 3, 2017; and repeat the inspection thereafter at the applicable times specified in paragraph 1.E., “Compliance,” of Aviation Partners Boeing Service Bulletin AP767-57-010, Revision 11, dated April 3, 2017.

(3) If any crack is found during any inspection required by paragraph (g)(1)(i)(B)(2) of this AD, repair before further flight using a method approved in accordance with the procedures specified in paragraph (k) of this AD.

(C) Do the actions required by paragraphs (g)(1)(i)(C)(1) and (g)(1)(i)(C)(2) of this AD, and do all applicable actions required by paragraph (g)(1)(i)(C)(3) of this AD.

(1) Before further flight, repair (modify) in accordance with Part 8 of the Accomplishment Instructions of Aviation Partners Boeing Service Bulletin AP767-57-010, Revision 11, dated April 3, 2017.

(2) At the applicable time specified in paragraph 1.E., “Compliance,” of Aviation Partners Boeing Service Bulletin AP767-57-010, Revision 11, dated April 3, 2017, do a post-repair HFEC inspection for cracking, in accordance with Part 9 of the Accomplishment Instructions of Aviation Partners Boeing Service Bulletin AP767-57-010, Revision 11, dated April 3, 2017; and repeat the inspection thereafter at the applicable times specified in in paragraph 1.E., “Compliance,” of Aviation Partners Boeing Service Bulletin AP767-57-010, Revision 11, dated April 3, 2017.

(3) If any crack is found during any inspection required by paragraph (g)(1)(i)(C)(2) of this AD, repair before further flight using a method approved in accordance with the procedures specified in paragraph (k) of this AD.

(D) Do the actions required by paragraphs (g)(1)(i)(D)(1) and (g)(1)(i)(D)(2) of this AD, and do all applicable actions required by paragraph (g)(1)(i)(D)(3) of this AD.

(1) Before further flight, repair (modify) in accordance with Part 11 of the Accomplishment Instructions of Aviation Partners Boeing Service Bulletin AP767-57-010, Revision 11, dated April 3, 2017.

(2) At the applicable time specified in paragraph 1.E., “Compliance,” of Aviation Partners Boeing Service Bulletin AP767-57-010, Revision 11, dated April 3, 2017, do a post-repair HFEC inspection for cracking, in accordance with Part 13 of the Accomplishment Instructions of Aviation Partners Boeing Service Bulletin AP767-57-010, Revision 11, dated April 3, 2017; and repeat the inspection thereafter at the applicable times specified in in paragraph 1.E., “Compliance,” of Aviation Partners Boeing Service Bulletin AP767-57-010, Revision 11, dated April 3, 2017.

(3) If any crack is found during any inspection required by paragraph (g)(1)(i)(D)(2) of this AD, repair before further flight using a method approved in accordance with the procedures specified in paragraph (k) of this AD.

(ii) For airplanes on which “Condition 2” is found, as defined in the Accomplishment Instructions of Aviation Partners Boeing Service Bulletin AP767-57-010, Revision 11, dated April 3, 2017, during any inspection required by paragraph (g)(1) or (g)(1)(i)(A) of this AD: Do the actions required by paragraph (g)(1)(ii)(A) or (g)(1)(ii)(B) of this AD.

(A) Do the actions required by paragraphs (g)(1)(ii)(A)(1) and (g)(1)(ii)(A)(2) of this AD, and do all applicable actions required by paragraph (g)(1)(ii)(A)(3) of this AD.

(1) Before further flight, repair (modify) in accordance with Part 8 of the Accomplishment Instructions of Aviation Partners Boeing Service Bulletin AP767-57-010, Revision 11, dated April 3, 2017.

(2) At the applicable time specified in paragraph 1.E., “Compliance,” of Aviation Partners Boeing Service Bulletin AP767-57-010, Revision 11, dated April 3, 2017, do a post-repair HFEC inspection for cracking, in accordance with Part 9 of the Accomplishment Instructions of Aviation Partners Boeing Service Bulletin AP767-57-010, Revision 11, dated April 3, 2017; and repeat the inspection thereafter at the applicable times specified in in paragraph 1.E., “Compliance,” of Aviation Partners Boeing Service Bulletin AP767-57-010, Revision 11, dated April 3, 2017.

(3) If any crack is found during any inspection required by paragraph (g)(1)(ii)(A)(2) of this AD, repair before further flight using a method approved in accordance with the procedures specified in paragraph (k) of this AD.

(B) Do the actions required by paragraphs (g)(1)(ii)(B)(1) and (g)(1)(ii)(B)(2) of this AD, and do all applicable actions required by paragraph (g)(1)(ii)(B)(3) of this AD.

(1) Before further flight, repair (modify) in accordance with Part 11 of the Accomplishment Instructions of Aviation Partners Boeing Service Bulletin AP767-57-010, Revision 11, dated April 3, 2017.

(2) At the applicable time specified in paragraph 1.E., “Compliance,” of Aviation Partners Boeing Service Bulletin AP767-57-010, Revision 11, dated April 3, 2017, do a post-repair HFEC inspection for cracking, in accordance with Part 13 of the Accomplishment Instructions of Aviation Partners Boeing Service Bulletin AP767-57-010, Revision 11, dated April 3, 2017; and repeat the inspection thereafter at the applicable times specified in in paragraph 1.E., “Compliance,” of Aviation Partners Boeing Service Bulletin AP767-57-010, Revision 11, dated April 3, 2017.

(3) If any crack is found during any inspection required by paragraph (g)(1)(ii)(B)(2) of this AD, repair before further flight using a method approved in accordance with the procedures specified in paragraph (k) of this AD.

(iii) For airplanes on which “Condition 3” is found, as defined in the Accomplishment Instructions of Aviation Partners Boeing Service Bulletin AP767-57-010, Revision 11, dated April 3, 2017, during the actions specified in paragraph (g)(1)(i)(B)(1) of this AD: Do the actions required by paragraph (g)(1)(iii)(A) or (g)(1)(iii)(B) of this AD.

(A) Do the actions required by paragraphs (g)(1)(iii)(A)(1) and (g)(1)(iii)(A)(2) of this AD, and do all applicable actions required by paragraph (g)(1)(iii)(A)(3) of this AD.

(1) Before further flight, repair (modify) in accordance with Part 8 of the Accomplishment Instructions of Aviation Partners Boeing Service Bulletin AP767-57-010, Revision 11, dated April 3, 2017.

(2) At the applicable time specified in paragraph 1.E., “Compliance,” of Aviation Partners Boeing Service Bulletin AP767-57-010, Revision 11, dated April 3, 2017, do a post-repair HFEC inspection for cracking, in accordance with Part 9 of the Accomplishment Instructions of Aviation Partners Boeing Service Bulletin AP767-57-010, Revision 11, dated April 3, 2017; and repeat the inspection thereafter at the applicable times specified in in paragraph 1.E., “Compliance,” of Aviation Partners Boeing Service Bulletin AP767-57-010, Revision 11, dated April 3, 2017.

(3) If any crack is found during any inspection required by paragraph (g)(1)(iii)(A)(2) of this AD, repair before further flight using a method approved in accordance with the procedures specified in paragraph (k) of this AD.

(B) Do the actions required by paragraphs (g)(1)(iii)(B)(1) and (g)(1)(iii)(B)(2) of this AD, and do all applicable actions required by paragraph (g)(1)(iii)(B)(3) of this AD.

(1) Before further flight, repair (modify) in accordance with Part 11 of the Accomplishment Instructions of Aviation Partners Boeing Service Bulletin AP767-57-010, Revision 11, dated April 3, 2017.

(2) At the applicable time specified in paragraph 1.E., “Compliance,” of Aviation Partners Boeing Service Bulletin AP767-57-010, Revision 11, dated April 3, 2017, do a post-repair HFEC inspection for cracking, in accordance with Part 13 of the Accomplishment Instructions of Aviation Partners Boeing Service Bulletin AP767-57-010, Revision 11, dated April 3, 2017; and repeat the inspection thereafter at the applicable times specified in in paragraph 1.E., “Compliance,” of Aviation Partners Boeing Service Bulletin AP767-57-010, Revision 11, dated April 3, 2017.

(3) If any crack is found during any inspection required by paragraph (g)(1)(iii)(B)(2) of this AD, repair before further flight using a method approved in accordance with the procedures specified in paragraph (k) of this AD.

(iv) For airplanes on which “Condition 4” is found, as defined in the Accomplishment Instructions of Aviation Partners Boeing Service Bulletin AP767-57-010, Revision 11, dated April 3, 2017, during any action specified in paragraph (g)(1)(i)(C)(1), (g)(1)(i)(D)(1), (g)(1)(ii)(A)(1), (g)(1)(ii)(B)(1), (g)(1)(iii)(A)(1), and (g)(1)(iii)(B)(1) of this AD: Repair before further flight using a method approved in accordance with the procedures specified in paragraph (k) of this AD.

(2) For Group 3 airplanes identified in Aviation Partners Boeing Service Bulletin AP767-57-010, Revision 11, dated April 3, 2017: At the applicable time specified in paragraph 1.E., “Compliance,” of Aviation Partners Boeing Service Bulletin AP767-57-010, Revision 11, dated April 3, 2017, or within 6 months after the effective date of this AD, whichever occurs later, do an HFEC inspection for cracking of the lower outboard wing skin at stringer L-9.5, in accordance with Part 7 of the Accomplishment Instructions of Aviation Partners Boeing Service Bulletin AP767-57-010, Revision 11, dated April 3, 2017. Repeat the inspection thereafter at the applicable time specified in paragraph 1.E., “Compliance,” of Aviation Partners Boeing Service Bulletin AP767-57-010, Revision 11, dated April 3, 2017. If any cracking is found during any inspection, repair before further flight using a method approved in accordance with the procedures specified in paragraph (k) of this AD. An approved repair terminates the repetitive inspections required by paragraph (g)(2) of this AD.

(h) Repetitive Stringer L-6.5 Inspections, Repair (Modification), Repetitive Post-Repair Inspections, and Repair

(1) For airplanes identified in Boeing Service Bulletin AP767-57-014, Revision 1, dated April 12, 2017: At the applicable time specified in paragraph 1.E., “Compliance,” of Aviation Partners Boeing Service Bulletin AP767-57-014, Revision 1, dated April 12, 2017, except as required by paragraph (j)(2) of this AD: Do an HFEC inspection for cracking of stringer L-6.5 of the lower outboard wing skin, in accordance with Part 1 of Aviation Partners Boeing Service Bulletin AP767-57-014, Revision 1, dated April 12, 2017. If no cracking is found, repeat the inspection thereafter at the applicable times specified in paragraph 1.E., “Compliance,” of Aviation Partners Boeing Service Bulletin AP767-57-014, Revision 1, dated April 12, 2017, except as provided by paragraph (h)(3) of this AD.

(2) If any crack is found during any inspection required by paragraph (h)(1) of this AD, do the actions required by paragraphs (h)(2)(i) and (h)(2)(ii) of this AD, and do all applicable actions required by paragraph (h)(2)(iii) of this AD.

(i) Before further flight, repair (modify) stringer L-6.5, in accordance with Part 2 of the Accomplishment Instructions of Aviation Partners Boeing Service Bulletin AP767-57-014, Revision 1, dated April 12, 2017.

(ii) At the applicable time specified in paragraph 1.E., “Compliance,” of Aviation Partners Boeing Service Bulletin AP767-57-014, Revision 1, dated April 12, 2017, except as required by paragraph (j)(2) of this AD, do an HFEC post-repair inspection for cracking, in accordance with Part 3 of the Accomplishment Instructions of Aviation Partners Boeing Service Bulletin AP767-57-014, Revision 1, dated April 12, 2017, and repeat the inspection thereafter at the applicable times specified in paragraph 1.E., “Compliance,” of Aviation Partners Boeing Service Bulletin AP767-57-014, Revision 1, dated April 12, 2017.

(iii) If any crack is found during any inspection required by paragraph (h)(2)(ii) of this AD, repair before further flight using a method approved in accordance with the procedures specified in paragraph (k) of this AD.

(3) As an option to the repetitive inspections required by paragraph (h)(1) of this AD, do the actions required by paragraphs (h)(3)(i) and (h)(3)(ii) of this AD, and do all applicable actions required by paragraph (h)(3)(iii) of this AD.

(i) Before further flight after accomplishing the most recent inspection required by paragraph (h)(1) of this AD, repair (modify) stringer L-6.5, in accordance with Part 2 of the Accomplishment Instructions of Aviation Partners Boeing Service Bulletin AP767-57-014, Revision 1, dated April 12, 2017.

(ii) At the applicable time specified in paragraph 1.E., “Compliance,” of Aviation Partners Boeing Service Bulletin AP767-57-014, Revision 1, dated April 12, 2017, except as required by paragraph (j)(2) of this AD, do a post-repair HFEC inspection for cracking, in accordance with Part 3 of the Accomplishment Instructions of Aviation Partners Boeing Service Bulletin AP767-57-014, Revision 1, dated April 12, 2017, and repeat the inspection thereafter at the applicable times specified in paragraph 1.E., “Compliance,” of Aviation Partners Boeing Service Bulletin AP767-57-014, Revision 1, dated April 12, 2017.

(iii) If any crack is found during any inspection required by paragraph (h)(3)(ii) of this AD, repair before further flight using a method approved in accordance with the procedures specified in paragraph (k) of this AD.

(i) Repair Approval

Repairs of the lower outboard wing skin done after June 15, 2017, and before the effective date of this AD, that are approved by the Boeing Commercial Airplanes Organization Designation Authorization (ODA) that has been authorized by the Manager, Seattle ACO Branch, are approved for the applicable repairs required by paragraphs (g) and (h) of this AD.

(j) Exceptions to Service Information Specifications

(1) Where paragraph 1.E., “Compliance,” of Aviation Partners Boeing Service Bulletin AP767-57-010, Revision 11, dated April 3, 2017, specifies a compliance time of “after the issue date of Revision 11 of this service bulletin,” this AD requires compliance within the specified compliance time after the effective date of this AD.

(2) Where paragraph 1.E., “Compliance,” of Aviation Partners Boeing Service Bulletin AP767-57-014, Revision 1, dated April 12, 2017, specifies a compliance time of “after the initial issue date of this service bulletin,” this AD requires compliance within the specified compliance time after the effective date of this AD.

(k) Alternative Methods of Compliance (AMOCs)

(1) The Manager, Seattle ACO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (l)(1) of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair, modification, or alteration required by this AD if it is approved by the Boeing Commercial Airplanes ODA that has been authorized by the Manager, Seattle ACO Branch, to make those findings. To be approved, the repair method, modification deviation, or alteration deviation must meet the certification basis of the airplane, and the approval must specifically refer to this AD.

(4) Except as required by paragraphs (g)(1)(i)(B)(3), (g)(1)(i)(C)(3), (g)(1)(i)(D)(3), (g)(1)(ii)(A)(3), (g)(1)(ii)(B)(3), (g)(1)(iii)(A)(3), (g)(1)(iii)(B)(3), (g)(1)(iv), (g)(2), (h)(2)(iii), and (h)(3)(iii) of this AD: For service information that contains steps that are labeled as Required for Compliance (RC), the provisions of paragraphs (k)(4)(i) and (k)(4)(ii) of this AD apply.

(i) The steps labeled as RC, including substeps under an RC step and any figures identified in an RC step, must be done to comply with the AD. If a step or substep is labeled “RC Exempt,” then the RC requirement is removed from that step or substep. An AMOC is required for any deviations to RC steps, including substeps and identified figures.

(ii) Steps not labeled as RC may be deviated from using accepted methods in accordance with the operator's maintenance or inspection program without obtaining approval of an AMOC, provided the RC steps, including substeps and identified figures, can still be done as specified, and the airplane can be put back in an airworthy condition.

(l) Related Information

(1) For more information about this AD, contact Allen Rauschendorfer, Aerospace Engineer, Airframe Section, FAA, Seattle ACO Branch, 1601 Lind Avenue SW., Renton, WA 98057-3356; phone: 425-917-6450; fax: 425-917-6590; email: allen.rauschendorfer@faa.gov.

(2) For service information identified in this AD, contact Aviation Partners Boeing, 2811 S. 102nd Street, Suite 200, Seattle, WA 98168; telephone 206-762-1171; Internet https://www.aviationpartnersboeing.com. You may view this referenced service information at the FAA, Transport Standards Branch, 1601 Lind Avenue SW., Renton, WA. For information on the availability of this material at the FAA, call 425-227-1221.

Issued in Renton, Washington, on November 3, 2017.
Jeffrey E. Duven,
Director, System Oversight Division, Aircraft Certification Service.

[FR Doc. 2017-24502 Filed 11-24-17; 8:45 am]

BILLING CODE 4910-13-P